DEPARTMENT OF COMMERCE

Bureau of Economic Analysis

Agency Information Collection Activities; Submission to the Office of Management and Budget (OMB) for Review and Approval; Comment Request; Direct Investment Surveys: BE-13, Survey of New Foreign Direct Investment in the United States

AGENCY: Bureau of Economic Analysis, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: Written comments must be submitted on or before March 17, 2026.

ADDRESSES: Interested persons are invited to submit written comments to Amanda Budny, Chief, Direct Transactions and Positions Branch, Bureau of Economic Analysis, U.S. Department of Commerce, by email to Amanda.Budny@bea.gov and PRAcomments@doc.gov. Please reference OMB Control Number 0608-0035 in the subject line of your comments. Do not submit Confidential Business Information or otherwise sensitive or protected information.

FOR FURTHER INFORMATION CONTACT: Requests for additional information or specific questions related to collection activities should be directed to Amanda Budny, Chief, Direct Transactions and Positions Branch, Bureau of Economic Analysis, U.S. Department of Commerce; via phone at (301) 278-9154; or via email at Amanda.Budny@bea.gov.

SUPPLEMENTARY INFORMATION:

I. Abstract

The BE-13, Survey of New Foreign Direct Investment in the United States, is a mandatory survey conducted by BEA under the authority of the International Investment and Trade in Services Survey Act (22 U.S.C. 3101-3108).

The purpose of the BE-13 survey is to collect data on the acquisition or establishment of U.S. business enterprises by foreign investors and the expansion of existing U.S. affiliates of foreign companies to establish a new facility where business is conducted. The data collected on the survey are used to measure the amount and economic significance of new foreign direct investment in the United States and assess its impact on the U.S. economy. Foreign direct investment in the United States is defined as the ownership or control, directly or indirectly, by one foreign investor of 10 percent or more of the voting securities of an incorporated U.S. business enterprise, or an equivalent interest of an unincorporated U.S. business enterprise, including a branch. The data collected through the survey are used to measure the amount of new foreign direct investment in the United States, assess the impact on the U.S. economy, and ensure complete coverage of BEA's other foreign direct investment statistics.

The Bureau of Economic Analysis (BEA) is not proposing any changes to the BE-13 survey.

II. Method of Collection

Notifications will be mailed to respondents as BEA becomes aware of a potentially reportable investment or when annual cost updates are needed. A business enterprise that meets the reporting requirements of the survey is required to report whether or not it is contacted by BEA. A business enterprise that is contacted by BEA and does not meet the reporting requirements is required to respond to indicate that it does not meet the requirements. The survey is due 45 days after (1) an acquisition is completed, (2) a new U.S. business enterprise is established, (3) an expansion is begun, (4) a cost update is requested by BEA, or (5) a U.S. business enterprise that does not meet the filing requirements for the survey receives a notification letter from BEA.

BEA offers electronic filing through its eFile system (www.bea.gov/efile) for use in reporting on the BE-13 survey forms. In addition, BEA posts all its survey forms and reporting instructions on its website (www.bea.gov/fdi). These may be downloaded, completed, printed, and submitted via fax or mail.

III. Data

OMB Control Number: 0608-0035.

Form Number: BE-13.

Type of Review: Regular submission, reinstatement without change.

Affected Public: Businesses or other for-profit organizations.

Estimated Number of Respondents: 3,417 annually, of which approximately 402 file BE-13A forms, 74 file BE-13B forms, 49 file BE-13D forms, 165 file BE-13E forms, and 2,727 file BE-13 Claim for Exemption forms.

Estimated Time per Response: 0.6 hours is the average but may vary considerably among respondents because of differences in company structure and complexity.

Estimated Total Annual Burden Hours: 2,032.

Estimated Total Annual Cost to Public: $0.

Respondent's Obligation: Mandatory.

Legal Authority: International Investment and Trade in Services Survey Act (Pub. L. 94-472, 22 U.S.C. 3101-3108, as amended by Pub. L. 98-573 and Pub. L. 101-533).

IV. Request for Comments

We are soliciting public comments to permit the Department of Commerce/Bureau of Economic Analysis to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00822 Filed 1-15-26; 8:45 am]

BILLING CODE 3510-06-P